DEPARTMENT OF STATE

22 CFR Part 62

[Public Notice 3284]

Fees for Exchange Visitor Program Designation Services

AGENCY: Bureau of Educational and Cultural Affairs, State.

ACTION: Final rule.

SUMMARY: By interim final rule published September 27, 1999 (64 FR 51894), the United States Department of State [“Department”] adopted fees sufficient for it to recover the full cost of its administrative processing of certain requests for Exchange Visitor Program Designation services. The Department is hereby adopting as final the September 27, 1999 interim final rule, with modifications. The Department administers the Exchange Visitor Program pursuant to the Fulbright-Hays Act of 1961. The Departments of Commerce, Justice, and State, the Judiciary, and Related Agency Appropriations Act of 1998 authorizes the Department to collect fees related to its provision of Exchange Visitor Program services.

DATES: Effective Date: The interim rule published on September 27, 1999 (64 FR 51894) is adopted as final and is effective on April 14, 2000. The addition in this rule of § 62.90 is effective on April 14, 2000. The specified fee will be assessed for all requests for an extension, change of category, reinstatement, or program designation as well as for non-routine requests for the Form IAP-66 post-marked after April 14, 2000.

FOR FURTHER INFORMATION CONTACT: Sally J. Lawrence (Chief), Exchange Visitor Program Designation Staff. (202)401-9810.

SUPPLEMENTARY INFORMATION: On September 27, 1999, the United States Information Agency [“USIA”] issued an interim final rule on the adoption of fees for all requests for an extension, change of category, reinstatement, or program designation as well as for non-routine requests for the Form IAP-66. This rule was to be effective on January 1, 2000. The September 27 interim final rule on fees was amended by a final rule dated October 7, 1999 (64 FR 54538), and also by an interim final rule dated January 5, 2000 (65 FR 352). Those amendments were needed because of the consolidation of USIA into the Department of State and the time needed to establish an administrative process for the Department's collection of the fees. The Department now has had sufficient time to institute the requisite collection, recording and accounting system.

Accordingly, the Department hereby adopts as a final rule the September 27, 1999 interim final rule at 64 FR 51894, with administrative modifications as indicated above. This rule has no effect on the user fee that is currently being charged for applications for waiver of the two-year home-country residence requirement of 212(e) of the Immigration and Nationality Act, as set forth in 22 CFR 22.1 item 72.

Regulatory Flexibility Act

Because this rule involves a foreign affairs function of the United States Government, the Department is not required to prepare and make available for public comment an initial regulatory flexibility analysis.

Executive Order 13132

This rule will not have substantial direct effect on the States, on the relationship between the National Government and the States, or on the distribution of power and responsibilities among the various levels of government.

Executive Order 12866

This rule is exempt from review under Executive Order 12866, but has been reviewed internally by the Department to ensure consistency with the purposes thereof.

Small Business Regulatory Enforcement Fairness Act

The Department has determined that this rule is not a major rule, as defined by section 804 of the Small Business Regulatory Enforcement Fairness Act of 1996.

Unfunded Mandates Reform Act of 1995

No actions are necessary under the provisions of the unfunded Mandates Reform Act of 1995.

Paperwork Reduction Act

This rule does not create any new paperwork requirements.

List of Subjects in 22 CFR Part 62

Cultural Exchange Programs.

In consideration of the foregoing, the Department of State amends Chapter I, Subchapter G of Title 22, Code of Federal Regulations, as follows:

PART 62—EXCHANGE VISITOR PROGRAM

1. The authority citation for 22 CFR Part 62 is revised to read as follows:

Authority: 8 U.S.C. 1101(a)(15)(J), 1182, 1184, 1258; 22 U.S.C. 1431-1442, 2451-2460; Foreign Affairs Reform and Restructuring Act of 1998, Pub. L. 105-277, 112 Stat. 2681 et seq.; Reorganization Plan No. 2 of 1977, 3 CFR, 1977 Comp. p. 200; E.O. 12048 of March 27, 1978; 3 CFR, 1978 Comp. p. 168.

Subpart H—Fees

2. Section 62.90 is added to 22 CFR Part 62 to read as follows:

§ 62.90 Fees.

(a) Remittances. Fees prescribed within the framework of 31 U.S.C. 9701 shall be submitted as directed by the Department and shall be in the amount prescribed by law or regulation. Remittances must be drawn on a bank or other institution located in the United States and be payable in United States currency and shall be made payable to the “Department of State.” A charge of $25.00 will be imposed if a check in payment of a fee is not honored by the bank on which it is drawn. If an applicant is residing outside the United States at the time of application, remittance may be made by a bank international money order or a foreign draft drawn on an institution in the United States, and payable to the Department of State in United States currency.

(b) Amounts of fees. The following fees are prescribed:

(1) Request for program extension—$198.

(2) Request for change of program category—$198.

(3) Request for reinstatement—$198.

(4) Request for program designation—$799.

(5) Request for non-routine handling of an IAP-66 Form Request—$43.

Dated: April 7, 2000.
William B. Bader,
Assistant Secretary for Educational and Cultural Affairs, Department of State.

[FR Doc. 00-9232 Filed 4-13-00; 8:45 am]

BILLING CODE 4710-08-U